DEPARTMENT OF COMMERCE

National Oceanic and Atmospheric Administration

[I.D. 013106A]

Magnuson-Stevens Act Provisions; General Provisions for Domestic Fisheries; Application for Exempted Fishing Permits

AGENCY: National Marine Fisheries Service (NMFS), National Oceanic and Atmospheric Administration (NOAA), Commerce.

ACTION: Notification of a proposal for Exempted Fishing Permits to conduct experimental fishing; request for comments.

SUMMARY: The Assistant Regional Administrator for Sustainable Fisheries, Northeast Region, NMFS (Assistant Regional Administrator), has made a preliminary determination that the subject Exempted Fishing Permit (EFP) application contains all the required information and warrants further consideration. The Assistant Regional Administrator has also made a preliminary determination that the activities authorized under the EFP would be consistent with the goals and objectives of the Atlantic Sea Scallop Fishery Management Plan (FMP). However, further review and consultation may be necessary before a final determination is made to issue the EFP. Therefore, NMFS announces that the Assistant Regional Administrator proposes to recommend an EFP be issued that would allow vessels to conduct fishing operations that are otherwise restricted by the regulations governing the fisheries of the Northeastern United States. This EFP would exempt participating vessels from the 18,000 lb (8,165 kg) sea scallop access area possession limit. Regulations under the Magnuson-Stevens Fishery Conservation and Management Act require publication of this notification to provide interested parties the opportunity to comment on applications for proposed EFPs.

DATES: Comments on this document must be received on or before February 21, 2006.

ADDRESSES: Written comments should be sent to Patricia A. Kurkul, Regional Administrator, NMFS, Northeast Regional Office, 1 Blackburn Drive, Gloucester, MA 01930. Mark the outside of the envelope “Comments on the Standardized Sea Scallop Bag EFP Proposal.” Comments may also be sent via e-mail to DA5_336@noaa.gov or by fax to (978) 281-9135.

FOR FURTHER INFORMATION CONTACT: Ryan Silva, Fishery Management Specialist, phone 978-281-9326.

SUPPLEMENTARY INFORMATION: Coonamessett Farm submitted an application for an EFP on December 27, 2005, for an experiment funded by the Sea Scallop Research Set Aside Program. The experiment would investigate whether requiring vessels to land scallops in a standardized scallop bag would be a viable method of determining compliance with the Sea Scallop Access Area possession limit. This EFP is requested to allow vessels testing a standardized scallop bag to exceed Sea Scallop Access Area possession limits, which are currently set at 18,000 lb (8,165 kg) (see 50 CFR 648.60(a)(5)). While the standardized scallop bag will be used in numbers intended to achieve the 18,000 lb (8,165 kg) possession limit, it is possible that on some experimental trips the use of the standardized bag will result in a landings in excess of 18,000 lb (8,165 kg). To test the standardized bag, Coonamessett Farm proposes to conduct 24 sea scallop access area trips. Prior to departure, each vessel will be issued a number of bags and required to land its catch of scallops in them. The catch from each trip will be examined to determine if a standardized bag can be used to achieve the 18,000 lb (8,165 kg) possession limit. The 24 trips will occur throughout the Access Area open seasons in the Georges Bank Access Areas and the Hudson Canyon Access Area. The specific design and construction of the standardized scallop bag will be determined prior to the issuance of the EFPs.

Authority: 16 U.S.C. 1801 et seq.

Dated: January 31, 2006.
Alan D. Risenhoover,
Acting Director, Office of Sustainable Fisheries, National Marine Fisheries Service.

[FR Doc. E6-1478 Filed 2-2-06; 8:45 am]

BILLING CODE 3510-22-S